NUCLEAR REGULATORY COMMISSION

Availability of NUREG-1307, Revision 9, “Report on Waste Burial Charges. Changes in Decommissioning Waste Disposal Costs at Low-Level Waste Burial Facilities”

AGENCY: Nuclear Regulatory Commission.

ACTION: Notice of availability.

SUMMARY: The Nuclear Regulatory Commission is announcing the completion and availability of NUREG-1307, Revision 9, “Report on Waste Burial Charges,” dated September 2000.

ADDRESSES: NUREG-1307 may be purchased from The Superintendent of Documents, U.S. Government Printing Office, P.O. Box 37082, Washington, DC 20402-9328; www.access.gpo.gov/su docs; 202-512-1800; or The National Technical Information Service, Springfield, Virginia 22161-0002; www.ntis.gov; 1-800-553-6847 or, locally, 703-605-6000.

You may also electronically access NUREG—series publications and other NRC records at NRC's Public Electronic Reading Room at www.nrc.gov/NRC/ADAMS/index.html.

This publication is also posted at NRC's Web site address www.nrc.gov/NRC/NUREGS/indexnum.html.

FOR FURTHER INFORMATION CONTACT: David J. Wrona, Division of Licensing Project Management, Office of Nuclear Reactor Regulation, Washington, DC 20555-0001 (telephone 301-415-1924).

SUPPLEMENTARY INFORMATION: Nuclear power reactor licensees are required, per 10 CFR 50.75, to adjust annually the estimated decommissioning costs of their nuclear facilities in order to ensure adequate funds are available for decommissioning. The regulation references NUREG-1307 as the appropriate source for obtaining the adjustment factor for waste burial/disposition costs; this Revision 9 of NUREG-1307 provides the current waste burial costs at the Washington and South Carolina disposal sites. In addition, this revision provides costs for low-level radioactive waste disposition using waste vendors. Licensees can factor these numbers into the adjustment formula, as specified in 10 CFR 50.75(c)(2), to determine the minimum decommissioning fund requirement for their nuclear facilities.

Dated at Rockville, Maryland, this 6th day of October 2000.
For the Nuclear Regulatory Commission.
Michael T. Masnik,
Chief, Decommissioning Section, Project Directorate IV & Decommissioning, Division of Licensing Project Management, Office of Nuclear Reactor Regulation.

[FR Doc. 00-26643 Filed 10-16-00; 8:45 am]

BILLING CODE 7590-01-M